DEPARTMENT OF THE INTERIOR

National Park Service

Notice of Intent to Repatriate Cultural Items: McWane Science Center, Birmingham, AL

AGENCY: National Park Service, Interior.

ACTION: Notice.

Notice is here given in accordance with the Native American Graves Protection and Repatriation Act (NAGPRA), 25 U.S.C. 3005, of the intent to repatriate cultural items in the possession of the McWane Science Center, Birmingham, AL, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In the early 1900s, cultural items were removed from the Carden Bottoms site (3YE14) in Yell County, AR. Between 1979 and 1985, G.E. Pilquist, a collector from Dardanelle, AR, donated the cultural items to the Red Mountain Museum, Birmingham, AL. In 1994, the Red Mountain Museum merged with the Discovery Place under the name, Discovery 2000 Inc., and now operates as McWane Science Center. The cultural items are recorded as having been recovered from a grave. The five unassociated funerary objects are four stone beads and one blue glass bead.

According to oral evidence of the Quapaw Tribe of Indians, cultural items of personal adornment were placed with an individual at the time of death or as a part of the death rite or ceremony. Funerary objects associated with the human remains removed from the Carden Bottoms site have been determined to date to the early historic period. The human remains and associated funerary objects may be a late component of the Carden Bottoms complex, common along the Lower Arkansas River, including Yell County. The human remains and associated funerary objects that are also recorded as being removed from the Carden Bottoms site are described in an accompanying Notice of Inventory Completion. Oral history evidence presented by representatives of the Quapaw Tribe of Indians, Oklahoma indicates that the region has long been included in the traditional territory of the Quapaw. The Quapaw Tribe dominated that area when sustained European occupation of the lower Arkansas River began in the mid to late 1600s. In 1818, the Quapaw ceded the area south of the Arkansas River, including what is now Yell County, to the United States.

Officials of the McWane Science Center have determined that, pursuant to 25 U.S.C. 3001 (3)(B), the five cultural items described above are reasonably believed to have been placed with or near individual human remains at the time of death or later as part of the death rite or ceremony and are believed, by a preponderance of the evidence, to have been removed from a specific burial site of a Native American individual. Officials of the McWane Science Center also have determined that, pursuant to 25 U.S.C. 3001 (2), there is a relationship of shared group identity that can be reasonably traced between the unassociated funerary objects and the Quapaw Tribe of Indians, Oklahoma.

Representatives of any other Indian tribe that believes itself to be culturally affiliated with the unassociated funerary objects should contact Jun Ebersole, Collections Manager, McWane Science Center, 200 19th St. N, Birmingham, AL 35203, telephone (205) 714-8347, before September 22, 2008. Repatriation of the unassociated funerary objects to the Quapaw Tribe of Indians, Oklahoma may proceed after that date if no additional claimants come forward.

The McWane Science Center is responsible for notifying the Quapaw Tribe of Indians, Oklahoma that this notice has been published.

Dated: July 14, 2008
Sherry Hutt,
Manager, National NAGPRA Program.

[FR Doc. E8-19323 Filed 8-20-08; 8:45 am]

BILLING CODE 4312-50-S